DEPARTMENT OF AGRICULTURE

Food Safety and Inspection Service

[Docket No. 00-013N]

In-Distribution Inspection Activities and Initiatives; Public Meeting

AGENCY: Food Safety and Inspection Service, USDA.

ACTION: Notice.

SUMMARY: The Food Safety and Inspection Service (FSIS) is announcing a public meeting on June 9, 2000, to discuss its strategy for addressing the safety of meat and poultry products during distribution and to provide an overview and update on the in-distribution (ID) Inspection Project. The broader implications of ID activities in the Agency's projected inspection system will also be discussed.

DATES: The meeting will be held on June 9, 2000, from 9 a.m. to 12 p.m.

ADDRESSES: The meeting will be held at the Washington Plaza Hotel in Washington, DC, 10 Thomas Circle NW. (at Massachusetts Avenue and 14th Street), Washington, DC 20005, (202) 842-1300.

FOR FURTHER INFORMATION CONTACT: To register for the meeting, contact Ms. Ida Gambrell of the FSIS Planning Staff by telephone (202) 501-7260, FAX (202) 501-7615, or e-mail: ida.gambrell@usda.gov. Attendees who require a sign language interpreter or other special accommodations should contact Ms. Gambrell at the above numbers by June 2, 2000. For technical information contact Ms. Mary Cutshall by telephone (202) 720-3219, FAX (202) 690-0824, or e-mail: mary.cutshall@usda.gov.

SUPPLEMENTARY INFORMATION: As part of the implementation of the Agency's Pathogen Reduction; Hazard Analysis and Critical Control Point (HACCP) Systems final rule, published July 25, 1996 (61 FR 38806), the Agency is committed to developing strategies that address food safety hazards throughout the farm-to-table continuum.

Under the Federal Meat Inspection Act (FMIA) and the Poultry Products Inspection Act (PPIA), FSIS has the authority and responsibility to regulate not only the slaughter and processing but also the transportation, storage, and other handling of meat and poultry products.

FSIS compliance officers are charged with performing the tasks associated with ensuring the safety of meat and poultry products along the farm-to-table continuum (other than in-plant production). FSIS is now looking at alternative strategies for ensuring the safety of these products after they leave an inspected plant. One way of doing this is through the ID Inspection Project.

The Agency has assigned 11 inspectors to the ID Inspection Project. The Agency is also working with the State of Minnesota to develop an alternative strategy for addressing food safety hazards and other problems presented by federally inspected product in distribution. Under this developing approach, the State will advise FSIS of adulterated or misbranded federally inspected product that State inspectors find at retail/distribution/warehouse centers in the course of their regular inspections.

The purpose of the public meeting is to provide the public with information on the progress of these activities and on the Agency's tentative plans regarding future in-distribution activities.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Transcripts of this meeting will be made available in the FSIS Docket Room.

Done in Washington, DC, on May 24, 2000.
Thomas J. Billy,
Administrator.

[FR Doc. 00-13527 Filed 5-30-00; 8:45 am]

BILLING CODE 3410-DM-P